OFFICE OF GOVERNMENT ETHICS

Proposed Collection; Comment Request for Unmodified Qualified Trust Model Certificates and Model Trust Documents

AGENCY: Office of Government Ethics (OGE).

ACTION: Notice.

SUMMARY: After this first round notice and public comment period, OGE plans to submit the executive branch qualified trust model certificates and model trust documents to the Office of Management and Budget (OMB) for two-year extension of approval under the Paperwork Reduction Act. In all, a total of twelve OGE model certificates and model documents for qualified trusts are involved. OGE is proposing no changes to these forms.

DATES: Comments by the public and agencies on this proposed information collection extension are invited and should be received by March 23, 2005.

ADDRESSES: Comments should be sent to: Mary T. Donovan, Office of Administration and Information Management, U.S. Office of Government Ethics, Suite 500, 1201 New York Avenue, NW., Washington, DC 20005-3917. Comments may also be sent electronically to OGE's E-mail address at usoge@oge.gov (for E-mail messages, the subject line should include the following reference—“Qualified trust model certificates and model trust documents paperwork comment”).

FOR FURTHER INFORMATION CONTACT: Ms. Donovan at the U.S. Office of Government Ethics; telephone: 202-482-9232; TDD: 202-482-9293; FAX: 202-482-9237. A copy of the model certificates and model documents for qualified trusts may be obtained, without charge, by contacting Ms. Donovan.

SUPPLEMENTARY INFORMATION: The Office of Government Ethics is planning to submit, after this first round notice and comment period, all twelve qualified trust certificates and model documents described below (all of which are included under OMB paperwork control number 3209-0007) for a two-year extension of approval by OMB under the Paperwork Reduction Act (44 U.S.C. chapter 35). At that time, OGE will publish a second paperwork notice in the Federal Register to inform the public and the agencies. The current paperwork approval for the model certificates and model trust documents is scheduled to expire at the end of March 2005. OGE is proposing no changes to the twelve qualified trust certificates and model documents at this time. In late 2006, OGE anticipates modifying some or all of these information collections by rewriting them in plain English in order to make them easier to understand.

OGE is the supervising ethics office for the executive branch of the Federal Government under the Ethics in Government Act of 1978 (Ethics Act). Presidential nominees to executive branch positions subject to Senate confirmation and any other executive branch officials may seek OGE approval for Ethics Act qualified blind or diversified trusts to be used to avoid conflicts of interest.

OGE is the sponsoring agency for the model certificates and model trust documents for qualified blind and diversified trusts of executive branch officials set up under section 102(f) of the Ethics Act, 5 U.S.C. app. § 102(f), and OGE's implementing financial disclosure regulations at subpart D of 5 CFR part 2634. The various model certificates and model trust documents are utilized by OGE and settlors, trustees and other fiduciaries in establishing and administering these qualified trusts.

There are two categories of information collection requirements which OGE plans to submit, each with its own related reporting model certificates or model trust documents which are subject to paperwork review and approval by OMB. The OGE regulatory citations for these two categories, together with identification of the forms used for their implementation, are as follows:

i. Qualified trust certifications—5 CFR 2634.401(d)(2), 2634.403(b)(11), 2634.404(c)(11), 2634.406(a)(3) & (b), 2634.408, 2634.409 and appendixes A & B to part 2634 (the two implementing forms, the Certificate of Independence and Certificate of Compliance, are codified respectively in the cited appendixes; see also the Privacy Act and Paperwork Reduction Act notices thereto in appendix C); and

ii. Qualified trust communications and model provisions and agreements—5 CFR 2634.401(c)(1)(i) & (d)(2), 2634.403(b), 2634.404(c), 2634.408 and 2634.409 (the ten implementing forms are the: (A) Blind Trust Communications (Expedited Procedure for Securing Approval of Proposed Communications); (B) Model Qualified Blind Trust Provisions; (C) Model Qualified Diversified Trust Provisions; (D) Model Qualified Blind Trust Provisions (For Use in the Case of Multiple Fiduciaries); (E) Model Qualified Blind Trust Provisions (For Use in the Case of an Irrevocable Pre-Existing Trust); (F) Model Qualified Diversified Trust Provisions (Hybrid Version); (G) Model Qualified Diversified Trust Provisions (For Use in the Case of Multiple Fiduciaries); (H) Model Qualified Diversified Trust Provisions (For Use in the Case of an Irrevocable Pre-Existing Trust); (I) Model Confidentiality Agreement Provisions (For Use in the Case of a Privately Owned Business); and (J) Model Confidentiality Agreement Provisions (For Use in the Case of Investment Management Activities)).

The communications formats and the confidentiality agreements (items ii (A), (I) and (J) above) would not be available to the public because they contain sensitive, confidential information. All the other completed model trust certificates and model trust documents (except for any trust provisions that relate to the testamentary disposition of trust assets) are publicly available based upon a proper Ethics Act request (by filling out an OGE Form 201 access form).

The total annual public reporting burden represents the time involved for completing qualified trust certificates and model trust documents which are processed by OGE. The burden is based on the amount of time imposed on private citizens. Virtually all filers/document users are private trust administrators and other private representatives who help to set up and maintain the qualified blind and diversified trusts. The detailed paperwork estimates below for the various trust certificates and model trust documents are based on OGE's experience with administration of the qualified trust program.

i. Trust Certificates:

A. Certificate of Independence: Total filers (executive branch): 5; Private citizen filers (100%): 5; OGE-processed certificates (private citizens): 5; private citizen burden hours (20 minutes/certificate): 2.

B. Certificate of Compliance: Total filers (executive branch): 10; Private citizen filers (100%): 10; OGE-processed certificates (private citizens): 10; private citizen burden hours (20 minutes/certificate): 3; and

ii. Model Qualified Trust Documents:

A. Blind Trust Communications: Total Users (executive branch): 5; Private citizen users (100%): 5; OGE-processed documents (private citizens): 25 (based on an average of five communications per user, per year); private citizen burden hours (20 minutes/communication): 8.

B. Model Qualified Blind Trust: Total Users (executive branch): 2; Private citizen users (100%): 2; OGE-processed models (private citizens): 2; private citizen burden hours (100 hours/model): 200.

C. Model Qualified Diversified Trust: Total users (executive branch): 1; Private citizen users (100%): 1; OGE-processed models (private citizens): 1; private citizen burden hours (100 hours/model): 100.

D.-H. Of the five remaining model qualified trust documents: Total users (executive branch): 2; Private citizen users (100%): 2; OGE-processed models (private citizens): 2; private citizen burden hours (100 hours/model): 200.

I.-J. Of the two model confidentiality agreements: Total users (executive branch): 1; Private citizen users (100%): 1; OGE-processed agreements (private citizens): 1; private citizen burden hours (50 hours/agreement): 50.

Based on these estimates, the total number of forms expected annually at OGE is 46, with a cumulative total of 563 burden hours. This is a decrease of 248 forms and 3,222 hours from the prior three-year period.

Public comment is invited on each aspect of the model qualified trust certificates and model trust documents, and underlying regulatory provisions, as set forth in this notice, including specific views on the need for and practical utility of this set of collections of information, the accuracy of OGE's burden estimate, the potential for enhancement of quality, utility and clarity of the information collected, and the minimization of burden (including the use of information technology).

Comments received in response to this notice will be summarized for, and may be included with, the OGE request for extension of the OMB paperwork approval for the set of the various existing qualified trust model certificates, the model communications package, and the model trust documents. The comments will also become a matter of public record.

Approved: December 22, 2004.
Marilyn L. Glynn,
Acting Director, Office of Government Ethics.

[FR Doc. 05-308 Filed 1-6-05; 8:45 am]

BILLING CODE 6345-02-P